DEPARTMENT OF DEFENSE

Office of the Secretary

[Docket ID: DOD-2012-OS-0054]

Privacy Act of 1974; System of Records

AGENCY: Defense Logistics Agency, DoD.

ACTION: Notice to Alter a System of Records.

SUMMARY: The Defense Logistics Agency proposes to alter a system of records in its inventory of record systems subject to the Privacy Act of 1974 (5 U.S.C. 552a), as amended.

DATES: This proposed action would be effective on June 11, 2012 unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jody Sinkler, Privacy Act Officer, Headquarters Defense Logistics Agency, ATTN: DGA, 8725 John J. Kingman Road, Suite 1644, Fort Belvoir, VA 22060-6221, or by phone at (703) 767-5045.

SUPPLEMENTARY INFORMATION: The Defense Logistics Agency systems of records notices subject to the Privacy Act of 1974 (5 U.S.C. 552a), as amended, have been published in the Federal Register and are available from the address in FOR FURTHER INFORMATION CONTACT. The proposed system report, as required by 5 U.S.C. 552a(r) of the Privacy Act of 1974, as amended, was submitted on April 27, 2012 to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: May 8, 2012.
Aaron Siegel,
Alternate OSD Federal Register Liaison Officer, Department of Defense.

S400.20

System name:

Day Care Facility Registrant, Applicant and Enrollee Records (August 29, 2008, 73 FR 50949).

Changes:

* * * * *

Categories of individuals covered by the system:

Delete entry and replace with “Children and their sponsors (DoD personnel, active duty military, and DoD contractors) who are enrolled in, or have applied for admission to, DLA-managed day care facilities.”

Categories of records in the system:

Delete “Social Security Numbers” from the “Waiting List Applicant Records” paragraph and “Social Security Number (SSN)” from the “Employee Records” paragraph.

Authority for maintenance of the system:

Delete “E.O. 9397 (SSN)” from entry.

Purpose(s):

Within entry, replace “CDP” with “Child Development and Youth Program (CDYP)” the first time; thereafter replace “CDP” with “CDYP.”

* * * * *

Disclosures to consumer reporting agencies:

Delete element in its entirety.

* * * * *

Storage:

Delete “and in electronic storage media”.

Retrievability:

Delete “and Social Security Number”.

Safeguards:

Delete last sentence in entry.

* * * * *

System manager(s) and address:

Change attention element to “ATTN: DS-Q.”

Notification procedure:

Delete entry and replace with “Individuals seeking to determine whether information about themselves is contained in this system should address written inquiries to the DLA HQ FOIA/Privacy Act Office, Defense Logistics Agency Headquarters, ATTN: DGA, 8725 John J. Kingman Road, Suite 1644, Fort Belvoir, VA 22060-6221.

Inquiries from registrants/applicants/sponsors should contain their full name and address. Inquiries from volunteers should contain their full name.”

Record access procedures:

Delete entry and replace with “Individuals seeking access to information about themselves contained in this system should address written inquiries to the DLA HQ FOIA/Privacy Act Office, Defense Logistics Agency Headquarters, ATTN: DGA, 8725 John J. Kingman Road, Suite 1644, Fort Belvoir, VA 22060-6221.

Inquiries from registrants/applicants/sponsors should contain their full name and address. Inquiries from volunteers should contain their full name.”

Contesting record procedures:

Delete entry and replace with “The DLA rules for accessing records, for contesting contents, and appealing initial agency determinations are contained in 32 CFR part 323, or may be obtained from the DLA HQ FOIA/Privacy Act Office, Defense Logistics Agency Headquarters, ATTN: DGA, 8725 John J. Kingman Road, Suite 1644, Fort Belvoir, VA 22060-6221.”

Record source categories:

Change “CDP” to “Child Development and Youth Program.”

* * * * *

[FR Doc. 2012-11419 Filed 5-10-12; 8:45 am]

BILLING CODE 5001-06-P